DEPARTMENT OF TRANSPORTATION

Federal Aviation Administration

14 CFR Part 39

[Docket No. FAA-2014-0241; Directorate Identifier 2014-CE-008-AD]

RIN 2120-AA64

Airworthiness Directives; British Aerospace Regional Aircraft Airplanes

AGENCY: Federal Aviation Administration (FAA), Department of Transportation (DOT).

ACTION: Notice of proposed rulemaking (NPRM).

SUMMARY: We propose to adopt a new airworthiness directive (AD) for all British Aerospace Regional Aircraft Jetstream Model 3201 airplanes that would supersede AD 2007-10-16. This proposed AD results from mandatory continuing airworthiness information (MCAI) originated by an aviation authority of another country to identify and correct an unsafe condition on an aviation product. The MCAI describes the unsafe condition as the need to incorporate revisions to the Airworthiness Limitations section of the Instructions for Continued Airworthiness. We are issuing this proposed AD to require actions to address the unsafe condition on these products.

DATES: We must receive comments on this proposed AD by May 29, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0241; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION:

Comments Invited

We invite you to send any written relevant data, views, or arguments about this proposed AD. Send your comments to an address listed under the ADDRESSES section. Include “Docket No. FAA-2014-0241; Directorate Identifier 2014-CE-008-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On May 9, 2007, we issued AD 2007-10-16, Amendment 39-15057 (72 FR 27953, May 18, 2007). That AD required actions intended to address an unsafe condition on all British Aerospace Regional Aircraft Jetstream Model 3201 airplanes and was based on mandatory continuing airworthiness information (MCAI) originated by an aviation authority of another country.

Since we issued AD 2007-10-16, Amendment 39-15057 (72 FR 27953, May 18, 2007), BAE Systems (Operations) Ltd amended Jetstream Series 3200 Aircraft Maintenance Manual (AMM) Chapter 05-10-05, Airworthiness Limitations. Some life limits have been amended and new life limits introduced.

The European Aviation Safety Agency (EASA), which is the Technical Agent for the Member States of the European Community, has issued AD No.: 2014-0044, dated February 24, 2014 (referred to after this as “the MCAI”), to correct an unsafe condition for the specified products. The MCAI states:

The Jetstream Series 3200 Aircraft Maintenance Manual (AMM), includes Chapter 05-10-05 “Airworthiness Limitations, Description and Operation”. The maintenance tasks and limitations contained in this chapter have been identified as mandatory actions for continued airworthiness and EASA issued AD 2007-0074 to require operators to comply with those instructions.

Since that AD was issued, BAE Systems (Operations) Ltd amended Jetstream Series 3200 AMM Chapter 05-10-05 to introduce life limitations for the main landing gear radius rod mounting shaft assemblies and to incorporate wing structure inspections previously introduced through BAE Systems (Operations) Ltd Service Bulletin (SB) SB 51-JA020940. In addition, a new table was introduced to provide extended fatigue life limitations for structural items for aeroplanes entered into a life extension programme. Reference to BAE Systems (Operations) Ltd SB 32-JA981042 was updated from Revision 7 to Revision 8 to reflect increased life limits of the nose landing gear.

Failure to comply with the new and more restrictive instructions could result in an unsafe condition.

For the reasons described above, this EASA AD retains the requirements of EASA AD 2007-0074, which is superseded, and requires implementation of the maintenance requirements and/or airworthiness limitations as specified in Chapter 05-10-05 of the Jetstream Series 3200 AMM at Revision 29.

You may examine the MCAI on the Internet at http://www.regulations.gov by searching for and locating Docket No. FAA-2014-0241.

Relevant Service Information

BAE Systems (Operations) Ltd has issued British Aerospace Jetstream 3200 Series Aircraft Maintenance Manual, Revision 29, dated December 15, 2012. The actions described in this AMM are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 14 products of U.S. registry. We also estimate that it would take about 1 work-hour per product to comply with the basic requirements of this proposed AD of inserting the document into the Airworthiness Limitations section of the Instructions for Continued Airworthiness. The average labor rate is $85 per work-hour.

Based on these figures, we estimate the cost of the proposed AD on U.S. operators to be $1,190, or $85 per product.

We have no way of determining the cost to replace the life limited parts and to do the applicable maintenance tasks on each airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15057 (72 FR 27953, May 18, 2007), and adding the following new AD:

British Aerospace Regional Aircraft: Docket No. FAA-2014-0241; Directorate Identifier 2014-CE-008-AD.

(a) Comments Due Date

We must receive comments by May 29, 2014.

(b) Affected ADs

This AD supersedes AD 2007-10-16, Amendment 39-15057 (72 FR 27953, May 18, 2007).

(c) Applicability

This AD applies to British Aerospace Regional Aircraft Jetstream Model 3201 airplanes, all serial numbers, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as the need to incorporate revisions to the Airworthiness Limitations section of the Instructions for Continued Airworthiness (ICA). We are issuing this AD to enforce compliance with these requirements in order to maintain airworthiness.

(f) Actions and Compliance

Unless already done, do the actions in paragraphs (f)(1) and (f)(2) of this AD:

(1) As of the effective date of this AD, replace each component before exceeding the applicable life limit and complete all applicable maintenance tasks within the thresholds and intervals as specified in British Aerospace Jetstream 3200 Series Aircraft Maintenance Manual, Revision 29, Airworthiness Limitations, Chapter 05-10-05, dated December 15, 2012.

(2) You may comply with the requirement of paragraph (f)(1) of this AD by incorporating British Aerospace Jetstream 3200 Series Aircraft Maintenance Manual, Revision 29, Airworthiness Limitations, Chapter 05-10-05, dated December 15, 2012, into the Airworthiness Limitations section of your ICA and complying with that program.

(g) Other FAA AD Provisions

The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090; email: taylor.martin@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2014-0044, dated February 24, 2014. You may examine the MCAI on the Internet at http://www.regulations.gov by searching for and locating Docket No. FAA-2014-0241. For service information related to this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may review copies of the referenced service information at the FAA, Small Airplane Directorate, 901 Locust, Kansas City, Missouri 64106. For information on the availability of this material at the FAA, call (816) 329-4148.

Issued in Kansas City, Missouri, on April 7, 2014.
Timothy Smyth,
Acting Manager, Small Airplane Directorate, Aircraft Certification Service.

[FR Doc. 2014-08318 Filed 4-11-14; 8:45 am]

BILLING CODE 4910-13-P